DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Northeast Region Permit Family of Forms.

OMB Control Number: 0648-0202.

Form Number(s): None.

Type of Request: Regular.

Number of Respondents: 65,360.

Average Hours per Response: 5 minutes: Dealer Permit Renewal, VMS Certification Form, Industry Call to Confirm Reporting to NOAA, Emails for US EEZ Arrival/Departure and Transhipment Activity, VMS Reporting, Exemption programs authorized for permit holders, Change in Multispecies Permit Category, Gillnet Designations; 10 minutes: VMS certification form and Installation confirmation, Lobster Area Designation and Requests for Trap Tags; 15 minutes: Initial Dealer Permit, VMS Power Down Exemption; 20 minutes: Lobster Area 5 Waiver; 30 minutes: Vessel Permit Renewal, Good Samaritan Credit, Entangled Whale DAS Credit, Canceled Trip DAS Credit, Vessel Owner Single Letter Option; 45 minutes: Initial Vessel Permit; 1 hour: Initial Operator Permit, Operator Permit Renewal, VMS Installation, State Quota Transfer; 1.3 hours: Installation and Operation Maintenance Fees; 1.5 hours: Replacement/CPH, History Retention; 2 hours: Notification and Communication with USCG and Center for Coastal Studies regarding Entangled Whale.

Burden Hours: 20,825.

Needs and Uses: The information collected via permit issuance (vessel, dealer, and operator) and through the Vessel Monitoring Systems (VMS) is used by several offices of the NOAA Fisheries Service, the U.S. Coast Guard, the Councils, and state fishery enforcement agencies under contract to the NOAA Fisheries Service in order to develop, implement, and monitor fishery management strategies. Identification of the participants, gear types, vessels, expected activity, and activity levels is an effective and necessary tool in the enforcement and management of fishery regulations.

Affected Public: Businesses and other for-profit organizations are primarily affected. Individuals or households, state, local or tribal governments, and the Federal Government are also affected.

Frequency: On occasion, weekly, monthly, annually, every three years.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-17991 Filed 8-20-19; 8:45 am]

BILLING CODE 3510-22-P